Title 3—

The President

Proclamation 9103 of April 10, 2014

Education and Sharing Day, U.S.A., 2014

By the President of the United States of America

A Proclamation

In the United States of America, every child should have the chance to go as far as their passions and hard work will take them. Education not only prepares young people to enter the workforce, it also expands their horizons, teaches them to think critically about the world around them, builds their character, and helps them develop the judgment to set our Nation's course. On Education and Sharing Day, U.S.A., we strengthen our resolve to provide a world-class education for every child.

Thanks to dedicated educators across our country, graduation rates have hit their highest level in almost three decades. Yet not all children have access to the best opportunities. I have called on the Congress to make high-quality preschool available to every child in America. Because great early childhood education leads to better outcomes in school and life, we will continue to invest in innovative, evidence-based preschool programs that get results. Together, we can put all our children on a path to success, even if their parents are not rich.

We are also working to ensure every classroom can take advantage of modern technology. With the support of the private sector, my Administration will connect 20 million students to high-speed broadband over the next 2 years—without adding a dime to the deficit. Within 5 years, 99 percent of American students will have access to these connections.

On this day, we remember Rabbi Menachem Mendel Schneerson, the Lubavitcher Rebbe, an inspiration to people around the world. Through a lifetime of scholarship and good works, he educated generations and inspired them to reach their fullest potential. In his honor, let us embrace the spirit that every child matters, and that there is nothing more important than the investments we make in our next generation.

NOW, THEREFORE, I, BARACK OBAMA, President of the United States of America, by virtue of the authority vested in me by the Constitution and the laws of the United States, do hereby proclaim April 11, 2014, as Education and Sharing Day, U.S.A. I call upon all Americans to observe this day with appropriate ceremonies and activities.

IN WITNESS WHEREOF, I have hereunto set my hand this tenth day of April, in the year of our Lord two thousand fourteen, and of the Independence of the United States of America the two hundred and thirty-eighth.

[FR Doc. 2014-08650

Filed 4-14-14; 8:45 am]

Billing code 3295-F4